DEPARTMENT OF TRANSPORTATION

Office of the Secretary

[Docket Number DOT-OST-2009-0294]

Request for OMB Clearance of an Information Collection Renewal

AGENCY: Office of the Secretary, DOT.

ACTION: Notice and request for comments.

SUMMARY: The Office of the Secretary, Office of Small and Disadvantaged Business Utilization (OSDBU), invites public comments regarding the Department of Transportation's intention to request the Office of Management and Budget's (OMB) approval to renew an information collection. On November 19, 2009, OSDBU published a Federal Register Notice with a 60-day comment period, (74 FR 60012) Docket # DOT-OST-2009-0294. The collection is in regards to the Disadvantaged Business Enterprise American Recovery and Reinvestment Act Bonding Assistance Reimbursable Fee Program (DBE ARRA BAP) application form. The notice was to inform the public of OSDBU's intention to extend the approved information collection. The continuation of the collection is necessary to determine the applicant's eligibility to approve or deny a bond fee reimbursement. As of January 12, 2010, OSDBU has not received any comments in response to the 60-day notice. We are required to publish this notice in the Federal Register by the Paperwork Reduction Act of 1995.

DATES: Written comments must be submitted by February 25, 2010.

ADDRESSES: You may submit a comment to DMS Docket Number DOT-OST-2010-0294 through one of the following methods:

Web site: http://www.regulations.gov. Instructions for submitting comments on http://www.regulations.gov can be found at http://docketsinfo.dot.gov/.

Fax: 1-202-493-2251.

Mail: Docket Management Facility; U.S. Department of Transportation, 1200 New Jersey Avenue, SE., West Building, Room W12-140, Washington, DC 20590-001.

Hand Delivery: Room W12-140 on the ground level of the West Building, 1200 New Jersey Avenue, SE., Washington, DC, between 9 a.m. and 5 p.m., Monday through Friday, except Federal Holidays.

Instructions: All comments must include the agency name and DMS Docket Number, DOT-OST-2010-0294. All comments received will be posted without change to http://www.regulations.gov, including any personal information provided. The comments provided to a Federal Department or Agency through http://www.regulations.gov are collected voluntarily and may be publicly disclosed in a rulemaking docket or on the Internet. All comments received into any of our dockets are viewable by the public, including the name of the individual that submitted the comment (or signed the comment, if submitted on behalf of an association, business, labor union, etc.). DOT's complete Privacy Act Statement, published in the Federal Register, may be viewed on http://www.regulations.gov.

Instructions: For access to the docket or to read background documents or comments, go to www.regulations.gov at any time or to Room W12-140 on the ground level of the West Building, 1200 New Jersey Avenue, SE., Washington, DC, between 9 a.m. and 5 a.m., Monday through Friday except Federal holidays.

To obtain confirmation of receipt of your written comments, please include a self-addressed, stamped postcard with the following statement: “Comments on Docket DOT-OST-2010-0294.” The Docket Clerk will date stamp the postcard prior and return it via the U.S. mail. Please note that due to delays in the delivery of U.S. mail to Federal offices in Washington, DC, we recommend that persons consider an alternative method (Internet, fax, or professional delivery service) to submit comments to the docket and ensure their timely receipt at U.S. DOT.

Comments: We particularly request your comments on the: (1) accuracy of the estimated burden; (2) ways to enhance the quality, usefulness, and clarity of the collected information and; (3) ways to minimize the collection burden without reducing the quality of the information collected, including additional use of automated collection techniques or other forms of information technology.

FOR FURTHER INFORMATION CONTACT: Nancy Strine, Manager Financial Assistance Division, Office of Small and Disadvantaged Business Utilization, Office of the Secretary, U.S. Department of Transportation, 1200 New Jersey Avenue, SE., Room W56-448, Washington, DC 20590. Telephone: 202-366-1930. Fax Number: 202-366-7228. Office hours are 8:30 a.m. to 5 p.m., Monday through Friday, except Federal holidays.

SUPPLEMENTARY INFORMATION:

Estimate of burden hours for information requested:

Respondents: Certified Disadvantaged Business Enterprises (DBEs) that are pursuing, in the process, or have obtained contracts on ARRA transportation infrastructure projects. US DOT/OSDBU spoke to the SBA Surety Bond Guarantee Program personnel and a representative of the Surety and Fidelity Association of America (SFAA) who represents the small and emerging businesses to obtain the required estimates. The average bond for a small and emerging business or DBE is between $250,000 and $500,000. To calculate the universe US DOT/OSDBU can serve, an average bond is estimated to be $350,000. The Bonding Premium Fee charged by the Sureties is a range of 2 to 3% of the total bond, so using an average premium of 2.5% on a $350,000 bond the DBE would pay $8,750. The SBA Surety Guarantee Bond Program Principal Fee is currently set to .729% of the contract price, or bond amount. For a $350,000 bond, the SBA principal fee is $2,551. The average amount of financial assistance is $11,300.00 per DBE on one application, submittal to include both eligible fees. Using these estimates, the number of DBEs that US DOT/OSDBU can assist with $20 million is approximately 1,770.

Form: U.S. Disadvantaged Business Enterprise (DBE) American Reinvestment and Recovery Act of 2009 Bonding Assistance Reimbursable Fee Program DOT Form F4504.

Respondents: 1770.

Frequency: Once.

Estimated Average Burden per Response: 2 hours.

Estimated Total Annual Burden Hours: 3540 hours.

OMB Approval No: OMB Control Number: 2105-0562.

Title: U.S Disadvantaged Business Enterprise (DBE) American Reinvestment and Recovery Act of 2009 Bonding Assistance Reimbursable Fee Program DOT Form F4504.

Type of Review: Renewal.

1. Needs and Uses: The information collected will be from a DBE working on transportation infrastructure ARRA funded project. Under the DBE ARRA BAP program, DBEs performing on a transportation and infrastructure projects receiving ARRA funding assistance from any DOT mode of transportation such as Federal Highway Administration (FHWA), Federal Transit Administration (FTA), Federal Aviation Administration (FAA), Federal Railroad Administration (FRA), Maritime Administration (MARAD) will receive financial bonding assistance in the form of bonding fee cost reimbursement. This provision is applicable to a subcontract or prime contract at any tier in the construction project. Under this program DOT will directly reimburse DBEs the premiums paid to the surety company for performance, payment or bid/proposal bonds. The range of the premium fee is between 1-3% of the total bond amount. In the event the DBE also obtains a bond guarantee from Small Business Administration's (SBA) Surety Bond Guarantee Program (SBGP), the DOT will also reimburse the DBE for the small business concern (principal) fee of .729% of the contract price. The information collected will be used by DOT OSDBU to verify eligibility, including whether the applicant is a current certified DBE.

2. Burden Statement: This collection is for DBEs working on transportation infrastructure ARRA funded project. DBEs are small businesses. Efforts have been made to simplify the application form, keeping it to one page with three page instructions to assist the DBE to submit a complete application package to expedite reimbursement and minimize burden. In addition a sample letter to show how to indicate the federal project number is included. Applicants will be able to find further guidance at http://www.dot.gov/recovery/ost/. A coordinated effort has been made with the DOT Operating Administrations to minimize duplicative reporting. OSDBU's intent is to give this subsidy reimbursement fee to the DBEs trying to obtain surety bonding to assist DBEs to become more competitive and perform on more transportation infrastructure projects receiving ARRA funding assistance from any DOT mode of transportation and minimize cash flow difficulties. Several applicant we have spoken to since August 28, 2009 (program launch date) has told us the application is self explanatory and they have not had any difficulties in filling it out or understanding the content and requirements.

Brandon Neal,
Director, Office of Small and Disadvantaged Business Utilization, Office of the Secretary, U.S. Department of Transportation.

[FR Doc. 2010-984 Filed 1-19-10; 8:45 am]

BILLING CODE 4910-9X-P